DEPARTMENT OF ENERGY

Federal Energy Regulatory Commission

Combined Notice of Filings #1

Take notice that the Commission received the following electric corporate filings:

Docket Numbers: EC18-96-000.

Applicants: ID Solar 1, LLC.

Description: Application for Authorization Under Section 203 of the Federal Power Act and Request for Expedited Consideration and Confidential Treatment of ID Solar 1, LLC.

Filed Date: 5/30/18.

Accession Number: 20180530-5198.

Comments Due: 5 p.m. ET 6/20/18.

Take notice that the Commission received the following electric rate filings:

Docket Numbers: ER10-1819-018; ER10-1817-016; ER10-1818-015; ER10-1820-021.

Applicants: Northern States Power Company, a Minnesota corporation, Northern States Power Company, a Wisconsin corporation, Public Service Company of Colorado, Southwestern Public Service Company.

Description: Notice of Change in Status of Northern States Power Company, a Minnesota corporation, et al.

Filed Date: 5/29/18.

Accession Number: 20180529-5235.

Comments Due: 5 p.m. ET 6/19/18.

Docket Numbers: ER17-1498-004.

Applicants: Rockford Power II, LLC.

Description: Compliance filing: Reactive Service Rate Schedule Compliance Filings to be effective 6/1/2017.

Filed Date: 5/30/18.

Accession Number: 20180530-5208.

Comments Due: 5 p.m. ET 6/20/18.

Docket Numbers: ER17-1499-004.

Applicants: Rockford Power, LLC.

Description: Compliance filing: Reactive Service Rate Schedule Compliance Filings to be effective 6/1/2017.

Filed Date: 5/30/18.

Accession Number: 20180530-5209.

Comments Due: 5 p.m. ET 6/20/18.

Docket Numbers: ER18-622-003.

Applicants: Midcontinent Independent System Operator, Inc.

Description: Compliance filing: 2018-05-29_Compliance filing regarding Order No. 831 Energy Offer Caps to be effective 12/31/9998.

Filed Date: 5/29/18.

Accession Number: 20180529-5228.

Comments Due: 5 p.m. ET 6/19/18.

Docket Numbers: ER18-1528-000.

Applicants: PJM Interconnection, L.L.C.

Description: Report Filing: Errata to Pending Filing in Docket No. ER18-1528-000 RE: Attachment C to be effective N/A.

Filed Date: 5/7/18.

Accession Number: 20180507-5075.

Comments Due: 5 p.m. ET 6/11/18.

Docket Numbers: ER18-1695-000.

Applicants: Puget Sound Energy, Inc.

Description: Petition of Puget Sound Energy, Inc. for Limited Waiver of Tariff Provisions, et al.

Filed Date: 5/29/18.

Accession Number: 20180529-5249.

Comments Due: 5 p.m. ET 6/19/18.

Take notice that the Commission received the following electric reliability filings

Docket Numbers: RD18-6-000.

Applicants: North American Electric Reliability Corporation.

Description: Errata Filing of the North American Electric Reliability Corporation to the Implementation Plan for the Revised Definition of “Remedial Action Scheme”.

Filed Date: 5/30/18.

Accession Number: 20180530-5038.

Comments Due: 5 p.m. ET 6/29/18.

Take notice that the Commission received the following electric reliability filings:

Docket Numbers: RR18-6-000.

Applicants: North American Electric Reliability Corporation.

Description: North American Electric Reliability Corporation's Report of Comparisons of Budgeted to Actual Costs for 2017 for NERC and the Regional Entities.

Filed Date: 5/30/18.

Accession Number: 20180530-5196.

Comments Due: 5 p.m. ET 6/20/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 30, 2018.
Nathaniel J. Davis, Sr.,
Deputy Secretary.

[FR Doc. 2018-11989 Filed 6-4-18; 8:45 am]

BILLING CODE 6717-01-P